DEPARTMENT OF ENERGY

Federal Energy Regulatory Commission

Combined Notice of Filings #1

Take notice that the Commission received the following electric corporate filings:

Docket Numbers: EC12-107-000.

Applicants: International Transmission Company.

Description: Section 203 Application of International Transmission Company.

Filed Date: 6/4/12.

Accession Number: 20120604-5205.

Comments Due: 5 p.m. ET 6/25/12.

Take notice that the Commission received the following electric rate filings:

Docket Numbers: ER04-835-007; ER04-835-009; EL04-103-004, EL04-103-002.

Applicants: California Independent System Operator Corporation.

Description: Informational Filing of the California Independent System Operator Corporation for market participants to calculate incremental cost of local component of minimum load compensation costs.

Filed Date: 5/15/12.

Accession Number: 20120515-5248.

Comments Due: 5 p.m. ET 6/19/12.

Docket Numbers: ER04-835-007; ER04-835-009; EL04-103-002; EL04-103-004.

Applicants: California Independent System Operator Corporation.

Description: Errata to May 15, 2012 Informational Filing of the California Independent System Operator Corporation.

Filed Date: 5/16/12.

Accession Number: 20120516-5164.

Comments Due: 5 p.m. ET 6/19/12.

Docket Numbers: ER12-653-001.

Applicants: Arizona Public Service Company.

Description: Arizona Public Service Company submits its deficiency response and additional information.

Filed Date: 6/4/12.

Accession Number: 20120604-5198.

Comments Due: 5 p.m. ET 6/25/12.

Docket Numbers: ER12-818-001.

Applicants: El Paso Electric Company.

Description: El Paso Electric Company submits deficiency response and additional information.

Filed Date: 6/4/12.

Accession Number: 20120604-5116.

Comments Due: 5 p.m. ET 6/25/12.

Docket Numbers: ER12-1773-001.

Applicants: Inupiat Energy Marketing, LLC.

Description: Amendment to be effective 5/21/2012.

Filed Date: 6/4/12.

Accession Number: 20120604-5080.

Comments Due: 5 p.m. ET 6/25/12.

Docket Numbers: ER12-1937-000.

Applicants: Carolina Power & Light Company.

Description: Revised Service Agreement No. 268 under Carolina Power and Light Company OATT to be effective 6/1/2012.

Filed Date: 6/4/12.

Accession Number: 20120604-5014.

Comments Due: 5 p.m. ET 6/25/12.

Docket Numbers: ER12-1938-000.

Applicants: Viridian Energy MD LLC.

Description: Market-Based Rate Tariff to be effective 5/21/2012.

Filed Date: 6/4/12.

Accession Number: 20120604-5021.

Comments Due: 5 p.m. ET 6/25/12.

Docket Numbers: ER12-1939-000.

Applicants: PJM Interconnection, L.L.C.

Description: Original Service Agreement No. 3324 to be effective 5/2/2012.

Filed Date: 6/4/12.

Accession Number: 20120604-5142.

Comments Due: 5 p.m. ET 6/25/12.

Docket Numbers: ER12-1940-000.

Applicants: Avista Corporation.

Description: Avista Corp Tariff (OATT) Revisions to be effective 8/4/2012.

Filed Date: 6/4/12.

Accession Number: 20120604-5158.

Comments Due: 5 p.m. ET 6/25/12.

Docket Numbers: ER12-1941-000.

Applicants: PJM Interconnection, L.L.C.

Description: Original Service Agreement No. 3325 to be effective 5/3/2012.

Filed Date: 6/4/12.

Accession Number: 20120604-5159.

Comments Due: 5 p.m. ET 6/25/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 5, 2012.
Nathaniel J. Davis, Sr.,
Deputy Secretary.

[FR Doc. 2012-14202 Filed 6-11-12; 8:45 am]

BILLING CODE 6717-01-P